DEPARTMENT OF COMMERCE

National Institute of Standards and Technology

[Docket Number: 070419095-7101-01]

NIST Consortium/Consortia for Post-Complementary Metal Oxide Semiconductor (CMOS) Nanoelectronics Research Program; Availability of Funds

AGENCY: National Institute of Standards and Technology, Commerce.

ACTION: Notice.

SUMMARY: The National Institute of Standards and Technology (NIST) announces that NIST seeks to work with a consortium or consortia to fund basic research in the field of nanoscale electronics focused on developing the next logic switch beyond complementary metal oxide semiconductor (CMOS).

DATES: All applications, paper and electronic, must be received no later that 5 p.m. Daylight Savings Time on June 4, 2007. Late applications will not be reviewed nor considered.

ADDRESSES: Application packages may be obtained by contacting Jason Boehm, National Institute of Standards and Technology, 100 Bureau Drive, Stop 1060, Gaithersburg, MD 20899-1060, phone (301) 975-8678, or by downloading them through Grants.gov. Completed application packages may be sent to Dr. Jason Boehm, National Institute of Standards and Technology, 100 Bureau Drive, Stop 1060, Gaithersburg, MD 20899-1060 or submitted to Grants.gov.

FOR FURTHER INFORMATION CONTACT: For complete information about this program and instructions for applying by paper or electronically, read the Federal Funding Opportunity (FFO) Notice at http://www.grants.gov. A paper copy of the FFO may be obtained by calling (301) 975-6328. Questions about the program should be addressed to: Dr. Jason Boehm, National Institute of Standards and Technology, 100 Bureau Drive, Stop 1060, Gaithersburg, MD 20899-1060, (301) 975-8678, Jason.boehm@nist.gov. Technical questions should be addressed to: Dr. Stephen Knight, Electronics and Electrical Engineering Laboratory, National Institute of Standards and Technology, 100 Bureau Drive, Stop 8101, Gaithersburg, MD 20899-8101, (301) 975-2871, Stephen.knight@nist.gov. Grants Administration questions should be addressed to: Hope Snowden, Grants and Agreements Management Division, National Institute of Standards and Technology, 100 Bureau Drive, Stop 1650; Gaithersburg, MD 20899-1650; Tel: (301) 975-6002, hope.snowden@nist.gov. For assistance with using Grants.gov contact support@grants.gov.

SUPPLEMENTARY INFORMATION: Catalog of Federal Domestic Assistance Name and Number:Measurement and Engineering Research and Standards—11.609.

Program Description: The National Institute of Standards and Technology (NIST) seeks research and development (R&D) partnerships that promote directed basic research at universities focused on the long-term research needs of industry in specific technological sectors important for U.S. economic competitiveness. NIST seeks to support a program of one or more projects that involves an industry-led partnership that can include commercial, academic, non-profit, and/or government organizations to address the technical challenges highlighted in the International Technology Roadmap for Semiconductors (ITRS) roadmap, including the characterization and measurement issues inherent in the use of nanoscale electronics to develop the next logic switch beyond complementary metal oxide semiconductor (CMOS) technology. The program is expected to leverage Federal financial support with that of other partners from industry to fund research at universities. Through the formation of a formal competitive process within a partnership (hereinafter called “the consortium”), a funded consortium is expected to create a process for the review, selection, award and monitoring of research awards to universities to be made by the consortium in support of addressing the technical challenges associated with nanoscale electronics and the development of the next logic switch beyond CMOS technology.

Funding Availability: Proposals will be considered for cooperative agreements with durations up to five years subject to the availability of funds, satisfactory progress, and the continuing relevance to national and NIST priorities. Applicants should submit scopes of work and budgets for each proposed project year. The anticipated level of funding is potentially up to $3 million per year. NIST will determine whether to fund one award for the full amount; to divide funds into multiple awards; or not to select any proposal for funding, upon completing the selection process described in this notice. One award is likely.

Statutory Authority: 15 U.S.C. Sec. 3704(c)(11) and (12), and Sec. 3706.

Eligibility: The NIST Consortium/Consortia for Post-CMOS Nanoelectronics Research Program is open to any industry-led consortium consisting of any number of commercial organizations; institutions of higher education; nonprofit organizations; and/or units of State, local, and/or Indian tribal governments. Tax exempt organizations formed under 26 U.S.C. section 501(c)(4) are ineligible for this program if they engage in lobbying as defined in the Lobbying Disclosure Act of 1995, 2 U.S.C. sections 1601-1607.

The managing entity of the consortium must be a legal entity based in the United States.

Review and Selection Process: All applications received in response to this announcement will be reviewed to determine whether or not they are complete and responsive to the scope of the stated program objectives. Incomplete or non-responsive applications will not be reviewed for technical merit. The Program will retain one copy of each non-responsive application for three years for record keeping purposes and destroy all other copies.

Responsive proposals will be evaluated by an independent, objective panel composed of professionally and technically qualified NIST employees using the evaluation criteria in this notice. The reviewers will reach a consensus score resulting in a rank order of applicants.

The Director of the NIST Program Office, acting as the Selecting Official, will make the award selection. In making the award selection, the Selecting Official will take into consideration the panels' technical evaluation. The Selecting Official may choose a proposal out of rank order based upon one or more of the following factors: (1) Availability of funds, (2) Redundancy, (3) Program objectives described in the Funding Opportunity Description section of the Federal Funding Opportunity Notice for this program, and (4) Logistical concerns that would be detrimental to the success or timely completion of the proposal objectives. Therefore, the highest scoring proposal(s) may not necessarily be selected for an award. If an award is made to an applicant that deviates from the scores of the reviewers, the Selecting Official shall justify the selection in writing based on selection factors described above. The Selecting Official may select all, none, or some of the applications for funding.

The final approval of selected applications and award of financial assistance will be made by the NIST Grants Officer based on compliance with application requirements as published in this notice, compliance with applicable legal and regulatory requirements, whether the application furthers the objectives of the Department of Commerce, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

Evaluation Criteria: For the NIST Consortia for Post-CMOS Nanoelectronics Research Program, proposals will be evaluated upon the following three equally weighted criteria:

Composition of Consortium and Technical Expertise: Proposals must provide a detailed description of the consortium. The breadth of the consortium in terms of the involvement of multiple industry partners, institutions of higher learning, non-profit organizations, and/or the participation of State and/or local governments will be evaluated. The proposal must illustrate the technical expertise of the consortium members relevant to the application of nanoscale electronics towards the development of fundamentally new approaches to circumvent the inherent thermal limitations for switches based on charge transfer to research on nanoscale electronics.

Support for Research: Proposals must provide a detailed description of resources that the consortium is willing to apply towards research on post-CMOS nanoelectronics. Proposals must detail the nature of the 25% or more recipient contribution. The total amount of recipient contribution and its application to R&D will be evaluated. For example, proposals that demonstrate support for R&D in terms of (in order of priority) direct grants for research, salary support for scientists, or access to equipment will receive a higher ranking than proposals that count overhead or other administrative costs as a part of the consortium's contributions.

Quality of Proposal: Proposals will be evaluated on the breadth and quality of the process used to implement the program. Proposals should describe how the consortium will manage the funds to support R&D in the area of post-CMOS nanoelectronics. Specifically, proposals must describe: how the availability of funds will be announced, who is eligible to receive funding, how proposals will be evaluated in terms of merit and relevance to industry needs, a willingness to fund research on multiple alternative state variables, mechanisms for avoiding conflict of interest, and plans and metrics for evaluating the outputs of the funded proposals. If the proposed consortium contains university members, a university consortium member may not be involved in selecting itself for a subaward. If the consortium contains university members and non-consortium-member universities are eligible for subawards, the proposal must describe how the consortium will fairly evaluate research proposals from university researchers outside the original membership of the consortium.

Cost Share Requirements: The Consortium members must provide a minimum of a 25 percent match of NIST funds.

The Department of Commerce Pre-Award Notification Requirements for Grants and Cooperative Agreements: The Department of Commerce Pre-Award Notification Requirements for Grants and Cooperative Agreements contained in the Federal Register notice of December 30, 2004 (69 FR 78389) is applicable to this notice. On the form SF-424, the applicant's 9-digit Dun and Bradstreet Data Universal Numbering System (DUNS) number must be entered in the Applicant Identifier block (68 FR 38402).

Collaborations with NIST Employees: All applications should include a description of any work proposed to be performed by an entity other than the applicant, and the cost of such work should ordinarily be included in the budget.

If an applicant proposes collaboration with NIST, the statement of work should include a statement of this intention, a description of the collaboration, and prominently identify the NIST employee(s) involved, if known. Any collaboration by a NIST employee must be approved by appropriate NIST management and is at the sole discretion of NIST. Prior to beginning the merit review process, NIST will verify the approval of the proposed collaboration. Any unapproved collaboration will be stricken from the proposal prior to the merit review.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. sec. 200-212, 37 CFR part 401, 15 CFR 14.36, and in section B.20 of the Department of Commerce Pre-Award Notification Requirements published on December 30, 2004 (69 FR 78389). Questions about these requirements may be directed to the Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Licensing or other disposition of NIST's rights in such inventions will be determined solely by NIST, and include the possibility of NIST putting the intellectual property into the public domain.

Collaborations Making Use of Federal Facilities: All applications should include a description of any work proposed to be performed using Federal Facilities. If an applicant proposes use of NIST facilities, the statement of work should include a statement of this intention and a description of the facilities. Any use of NIST facilities must be approved by appropriate NIST management and is at the sole discretion of NIST. Prior to beginning the merit review process, NIST will verify the availability of the facilities and approval of the proposed usage. Any unapproved facility use will be stricken from the proposal prior to the merit review. Examples of some facilities that may be available for collaborations are listed on the NIST Technology Services Web site, http://ts.nist.gov/.

Initial Screening of all Applications: All applications received in response to this announcement will be reviewed to determine whether or not they are complete and responsive to the scope of the stated program objectives. Incomplete or non-responsive applications will not be reviewed for technical merit. The Program will retain one copy of each non-responsive application for three years for record keeping purposes. The remaining copies will be destroyed.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001.

Notwithstanding any other provision of the law, no person is required to respond to, nor shall any person be subject to a penalty for failure to comply with, a collection subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR part 27. In addition, any proposal that includes research on these topics must be in compliance with any statutory requirements imposed upon the Department of Health and Human Services (DHHS) and other federal agencies regarding these topics, all regulatory policies and guidance adopted by DHHS, FDA, and other Federal agencies on these topics, and all Presidential statements of policy on these topics.

NIST will accept the submission of human subjects protocols that have been approved by Institutional Review Boards (IRBs) possessing a current registration filed with DHHS and to be performed by institutions possessing a current, valid Federal-wide Assurance (FWA) from DHHS. NIST will not issue a single project assurance (SPA) for any human subjects protocol proposed to NIST.

On August 9, 2001, the President announced his decision to allow Federal funds to be used for research on existing human embryonic stem cell lines as long as prior to his announcement (1) The derivation process (which commences with the removal of the inner cell mass from the blastocyst) had already been initiated and (2) the embryo from which the stem cell line was derived no longer had the possibility of development as a human being. NIST will follow guidance issued by the National Institutes of Health at http://ohrp.osophs.dhhs.gov/humansubjects/guidance/stemcell.pdf for funding such research.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR parts 1, 2, and 3, and if appropriate, 21 CFR part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Limitation of Liability: In no event will NIST or the Department of Commerce be responsible for proposal preparation costs if these programs fail to receive funding or are cancelled because of other agency priorities. Publication of this announcement does not oblige the agency to award any specific project or to obligate any available funds. Funding of any award under any program announced in this notice is subject to the availability of funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553(a)). Because notice and comment are not required under 5 U.S.C. 553, or any other law, for rules relating to public property, loans, grants, benefits or contracts (5 U.S.C. 553(a)), a Regulatory Flexibility Analysis is not required and has not been prepared for this notice, 5 U.S.C. 601 et seq.

Dated: May 1, 2007.
William Jeffrey,
Director, NIST.

[FR Doc. E7-8611 Filed 5-3-07; 8:45 am]

BILLING CODE 3510-13-P